DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: SAMHSA Disaster Technical Assistance Center Disaster Behavioral Health Needs Assessment and Customer Satisfaction Survey (OMB No. 0930-0325)—Revision

The Substance Abuse and Mental Health Services Administration (SAMHSA) is requesting approval for a revision to the data collection associated with the SAMHSA Disaster Technical Assistance Center (DTAC) Disaster Behavioral Health Needs Assessment and Customer Satisfaction Survey (OMB No. 0930-0325), which expires on June 30, 2014. The data collection instruments include the Disaster Behavioral Health Needs Assessment (NAS)—State/Territory Version, the NAS—Local Provider Version, the Disaster Behavioral Health Follow-Up Interview Guide (NAFI), and the SAMHSA DTAC Customer Satisfaction Survey (CSS). All of the proposed data collection efforts will provide feedback on the overall effectiveness of SAMHSA DTAC's services, ongoing needs at the national level, and areas that require enhanced technical assistance (TA) services.

SAMHSA DTAC will be responsible for administering the four data collection instruments and analyzing the data. SAMHSA DTAC will use data from the instruments to inform current and future TA activities and to ensure these activities continue to align with state and local needs.

A 3-year clearance is being requested to continue the previously cleared data collection activities. The components of the data collection are listed and described below, and a summary table of the number of respondents and respondent burden has also been included.

Disaster Behavior Health Needs Assessment Surveys (NAS). The NAS will assist SAMHSA DTAC in identifying the current needs of states, territories, federally recognized tribes, and local organizations and agencies as they integrate disaster behavioral health (DBH) into all-hazards disaster planning and response. There are two instruments under the NAS—the NAS—State/Territory Version and the NAS—Local Provider Version. The NAS will assess the current gaps and needs at the state, territory, and local provider levels in disaster behavioral health (mental health and substance abuse) planning and response efforts and preferred methods for receiving training to address these needs. Revisions to these data collection efforts include eliminating unnecessary questions, collapsing questions to ease respondent burden, changing or adding questions and response options to address DBH needs identified through previous administrations of the NAS instruments, and revising the administration to occur every two years instead of annually. Both NAS instruments will be administered online and will be programmed to include simplified screens and intuitive navigational controls.

The NAS—State/Territory Version will be administered to all disaster mental health coordinators, disaster substance abuse coordinators, and DBH coordinators (coordinators responsible for both mental health and substance abuse disaster services) in the 50 states, the U.S. territories, and the District of Columbia, for a total of 77 participants. Coordinators will be asked to provide contact information for up to 10 local DBH service providers with whom they work. These local providers will be invited to participate in the NAS—Local Provider Version. SAMHSA DTAC anticipates inviting approximately 250 local providers to participate across a representative sample of the states and U.S. territories.

Disaster Behavioral Health Needs Assessment Follow-Up Interviews (NAFI). The NAFI will allow SAMHSA DTAC to gain a more nuanced understanding of the needs identified in the NAS. SAMHSA DTAC will use the NAFI to delve deeper into current DBH needs and specific findings from the NAS to identify gaps and trends in disaster behavioral health preparedness and response across the country and inform future TA for state, territory, and local behavioral health authorities. The instrument is designed to collect indepth information useful for expanding and further enhancing the training and TA provided by SAMHSA DTAC, by SAMHSA DTAC, including tailoring resources to specific needs, providing resources in the most useful formats, and creating new resources to fill certain disaster behavioral health preparedness and response gaps. The NAFI will collect information on the following: (1) Familiarity with SAMHSA DTAC; (2) participant background and experiences; (3) general DBH-related needs; and (4) additional feedback related to specific needs identified in the NAS. This instrument is new under the proposed revision. The NAFI will be administered by telephone.

Participation in the NAFI will be solicited from up to 25 state or territory coordinators who completed the NAS—State/Territory Version and up to 25 local providers who completed the NAS—Local Provider Version. These individuals will be selected in such a manner as to obtain representation from various participants of various state/territory demographics, such as geographic region or frequency of disasters.

SAMHSA DTAC Customer Satisfaction Survey (CSS). The CSS will collect data from SAMHSA DTAC customers to ensure that the assistance SAMHSA DTAC provides is up-to-date, applicable, useful, and well received. Specifically, the CSS will collect the experiences and perspectives of: (1) Those who have requested TA (e.g., behavioral health coordinators, project coordinators, local providers) and (2) those who subscribe to SAMHSA DTAC e-communications. The CSS will assess the following: (1) familiarity with SAMHSA DTAC services and resources; (2) satisfaction with SAMHSA DTAC services and resources; (3) recommendations for enhancement of SAMHSA DTAC services and resources; and (4) participant background and demographics.

Revisions to this effort include modifications to the data collection instrument based on changes in SAMHSA DTAC services, modifications to the satisfaction rating scales to further increase clarity and efficiency of administration, and a reduced administration frequency (the proposed collection is for a twice annual administration as opposed to quarterly). The CSS will be administered by web and telephone.

Participation in the CSS will be solicited from all 50 states, the U.S. territories, and the District of Columbia. The survey will be administered to individuals who have requested TA within the 6 months prior to administration and those who are subscribed to DTAC's e-communications SAMHSA DTAC Bulletin or The Dialogue at the time of administration. During each administration, those who participated in the most recent administration of the CSS will be excluded.

Internet-based technology will be used to collect data via web-based surveys for the NAS and the CSS and for data entry and management of all proposed instruments. The average annual respondent burden is estimated below. The NAS instruments will be administered every 2 years. The CSS will be administered every six months. Table 1 represents the initial data collection and the burden for the first year. These estimates reflect the average annual number of respondents, the average annual number of responses, the time required for each response, and the average annual burden in hours.

Table 1—Annualized Estimate of Respondent Burden
Type of respondent | Instrument | Number of respondents | Number of responses per respondent | Total number of responses | Hours per response per respondent | Total burden hours
State DBH Coordinator | NAS (State/Territory Version) | 77 | 1 | 77 | 0.50 | 38.50
Local Provider | NAS (Local Provider Version) | 150 | 1 | 150 | 0.50 | 75.00
State DBH Coordinator | DBHNA (State/Territory Version) | 25 | 1 | 25 | 0.75 | 18.75
Local Provider | DBHNA (Local Provider Version) | 25 | 1 | 25 | 0.75 | 18.75
TA Requestor | DTAC Customer Satisfaction Survey | 300 | 1 | 300 | 0.25 | 75.00
Total |  | 577 |  | 577 |  | 226.00

Written comments and recommendations concerning the proposed information collection should be sent by April 14, 2014 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2014-05470 Filed 3-12-14; 8:45 am]

BILLING CODE 4162-20-P